DEPARTMENT OF HEALTH AND HUMAN SERVICES

Health Resources and Services Administration

Advisory Council; Notice of Meeting

In accordance with section 10(a)(2) of the Federal Advisory Committee Act (Public Law 92-463), announcement is made of the following National Advisory body scheduled to meet during the month of September 2000.

Name: National Advisory Council on Migrant Health.

Date and Time: September 27-28, 2000; 9:00 a.m.-5:00 p.m.

Place: Sacramento Radisson Hotel, 500 Leisure Lane, Sacramento, California 95815; Phone: 916-922-2020, Fax: 916-920-7312.

The meeting is open to the public.

Agenda: This will be a meeting of the Council. The agenda includes an overview of general Council business activities and priorities. Topics of discussion will include the Year 2000 Recommendations, the health status of farmworkers in California, updates on Council Member activities, and other general business of the Council. Agenda items are subject to change as priorities indicate.

The Council meeting is being held in conjunction with the California Primary Care Association Annual Meeting, which is taking place at the same time in the same hotel. The Council will meet independently on Wednesday, September 27, 2000. Thursday, September 28, 2000, the Council will meet independently from 8:30-10:30 a.m. and from 3:30-5:00 p.m. On September 28, from 10:30 a.m.-3:30 p.m. Council members will participate in workshops being offered through the California Primary Care Association Annual Meeting.

Anyone requiring information regarding the subject Council should contact Judy Rodgers, Migrant Health Program, staff support to the National Advisory Council on Migrant Health, Bureau of Primary Health Care, Health Resources and Services Administration, 4350 East-West Highway, Bethesda, Maryland 20814; Telephone 301-594-4304.

Dated: August 15, 2000.
James J. Corrigan,
Associate Administrator for Management and Program Support.

[FR Doc. 00-21252 Filed 8-21-00; 8:45 am]

BILLING CODE 4160-15-P